DEPARTMENT OF THE INTERIOR

Geological Survey

[GX17LR000F60100; OMB Control Number 1028-0068]

Agency Information Collection Activities; Submission to the Office of Management and Budget for Review and Approval; Ferrous Metals Surveys

AGENCY: U.S. Geological Survey, Interior.

ACTION: Notice of information collection.

SUMMARY: In accordance with the Paperwork Reduction Act of 1995, the U.S. Geological Survey is proposing to renew an information collection.

DATES: Interested persons are invited to submit comments on or before September 29, 2017.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive, MS 159, Reston, VA 20192; or by email to gs-info_collections@usgs.gov. Please reference OMB Control Number 1028-0068 in the subject line of your comments.

FOR FURTHER INFORMATION CONTACT: To request additional information about this ICR, contact Elizabeth S. Sangine by email at escottsangine@usgs.gov, or by telephone at 703-648-7720. You may also view the ICR at http://www.reginfo.gov/public/do/PRAMain.

SUPPLEMENTARY INFORMATION: We, the U.S. Geological Survey, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on May 2, 2017, 82 FR 20486. One comment was received from Bureau of Economic Analysis supporting the collection of this data as nationally important.

We are again soliciting comments on the proposed ICR that is described below. We are especially interested in public comment addressing the following issues: (1) Is the collection necessary to the proper functions of the U.S. Geological Survey; (2) will this information be processed and used in a timely manner; (3) is the estimate of burden accurate; (4) how might the U.S. Geological Survey enhance the quality, utility, and clarity of the information to be collected; and (5) how might the U.S. Geological Survey minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: Ferrous Metals Survey.

OMB Control Number: 1028-0068.

Form Number: Various, 15 forms.

Type of Review: Extension of a currently approved collection.

Respondents/Affected Public: Business or other-for-profit institutions: U.S. nonfuel minerals producers and consumers of ferrous and related metals.

Total Estimated Number of Annual Responses: 2296.

Total Estimated Number of Annual Burden Hours: 1199 hours.

Total Estimated Number of Annual Respondents: 1020.

Estimated Completion Time per Response: 10 minutes to 1 hour.

Respondent's Obligation: Voluntary.

Frequency of Collection: Monthly or annually.

Total Estimated Annual Nonhour Burden Cost: There are no nonhour burden costs associated with this IC.

Abstract: Respondents to these forms supply the USGS with domestic production and consumption data for 13 ores, concentrates, metals, and ferroalloys, some of which are considered strategic and critical. These data and derived information will be published as chapters in Minerals Yearbooks, monthly Mineral Industry Surveys, annual Mineral Commodity Summaries, and special publications, for use by Government agencies, industry education programs, and the general public.

The authorities for this action are the Paperwork Reduction Act of 1995 (44 U.S.C. 3501, et seq.).

Michael J. Magyar,
Associate Director, National Minerals Information Center, U.S. Geological Survey.

[FR Doc. 2017-18362 Filed 8-29-17; 8:45 am]

BILLING CODE 4338-11-P